DEPARTMENT OF COMMERCE

Foreign-Trade Zones Board

[B-36-2012]

Foreign-Trade Zone 92—Gulfport, MS; Authorization of Production Activity; Gulf Ship, LLC (Shipbuilding); Gulfport, MS

On May 10, 2012, the Mississippi Coast Foreign-Trade Zone, Inc., grantee of FTZ 92, submitted a notification of proposed production activity to the Foreign-Trade Zones (FTZ) Board on behalf of Gulf Ship, LLC, within FTZ 92—Site 3, in Gulfport, Mississippi.

The notification was processed in accordance with the regulations of the FTZ Board (15 CFR part 400), including notice in the Federal Register inviting public comment (77 FR 28569, 5-15-2012). The FTZ Board has determined that no further review of the activity is warranted at this time. The production activity described in the notification is authorized, subject to the FTZ Act and the Board's regulations, including Section 400.14.

Dated: September 21, 2012.
Andrew McGilvray,
Executive Secretary.

[FR Doc. 2012-24135 Filed 9-28-12; 8:45 am]

BILLING CODE 3510-DS-P